DEPARTMENT OF COMMERCE

National Oceanic and Atmospheric Administration

RIN 0648-XG646

False Killer Whale Take Reduction Team; Meeting Announcement

AGENCY: National Marine Fisheries Service (NMFS), National Oceanic and Atmospheric Administration (NOAA), Commerce.

ACTION: Notice of public meeting.

SUMMARY: NMFS announces a public meeting of the False Killer Whale Take Reduction Team (FKWTRT) on November 29, 2018 in order to provide recommendations on amendments to the False Killer Whale Take Reduction Plan (FKWTRP). The meeting will be held via conference call. Members of the public may submit written comments; the comments must be received within 14 days of the completion of the meeting.

DATES: The meeting of the FKWTRT will be held via conference call on November 29, 2018, from 10 a.m. to 12 p.m. Hawaii Standard Time (or until business is concluded).

ADDRESSES: The public meeting will be conducted via conference call. For details on how to call in to the conference line, please contact Kevin Brindock, Comments may be submitted to the address provided in FOR FURTHER INFORMATION CONTACT.

FOR FURTHER INFORMATION CONTACT: Kevin Brindock, NMFS Pacific Islands Regional Office; 1845 Wasp Blvd., Bldg. 176, Honolulu, HI 96818; telephone: 808-725-5146; facsimile: 808-725-5146; email: kevin.brindock@noaa.gov.

SUPPLEMENTARY INFORMATION: Section 118(f)(1) of the Marine Mammal Protection Act (MMPA) requires NMFS to develop and implement take reduction plans designed to assist in the recovery or prevent the depletion of each strategic stock that interacts with Category I and II fisheries. In accordance with Section 118(f)(6) of the MMPA, NMFS established the FKWTRT (75 FR 2853, January 19, 2010) to develop a draft take reduction plan to assist in the recovery and prevent the depletion of the Hawaii pelagic stock and Hawaii insular stock of false killer whales. On November 29, 2012, NMFS published regulations implementing provisions of the False Killer Whale Take Reduction Plan (FKWTRP; 77 FR 71260) to reduce the level of incidental mortality and serious injury (M&SI) of these two stocks of false killer whales in the Hawaii longline fisheries. In accordance with Section 118(f)(7), NMFS convenes periodically the FKWTRT to monitor the effectiveness and implementation of the FKWTRP, and to recommend amendments that may be necessary to meet that objectives of the FKWTRP. More information can be found on the FKWTRT website: https://www.fisheries.noaa.gov/national/marine-mammal-protection/false-killer-whale-take-reduction.

Meeting Topics

The purpose of the November 29, 2018, conference call is to review current information and develop consensus recommendations for the FKWTRP to reduce M&SI of false killer whales and meet the goals of the FKWTRP and the MMPA.

Special Accommodations

The conference call is accessible to people with disabilities. Requests for auxiliary aids should be directed to Kevin Brindock at 808-725-5146 at least seven working days prior to the meeting.

Authority: 16 U.S.C. 1361 et seq.

Dated: November 21, 2018.
Donna Wieting,
Director, Office of Protected Resources, National Marine Fisheries Service.

[FR Doc. 2018-25870 Filed 11-26-18; 8:45 am]

BILLING CODE 3510-22-P